NATIONAL SCIENCE FOUNDATION

Agency Information Collection Activities: Comment Request; Grantee Reporting Requirements for NSF Regional Innovation Engines (NSF Engines) Program

AGENCY: National Science Foundation.

ACTION: Notice.

SUMMARY: The National Science Foundation (NSF) is announcing plans to establish this collection. In accordance with the requirements of the Paperwork Reduction Act of 1995, we are providing an opportunity for public comment on this action. After obtaining and considering public comment, NSF will prepare the submission requesting Office of Management and Budget (OMB) clearance of this collection for no longer than 3 years.

DATES: Written comments on this notice must be received by December 24, 2024, to be assured consideration. Comments received after that date will be considered to the extent practicable. Send comments to the address below.

FOR FURTHER INFORMATION CONTACT: Suzanne H. Plimpton, Reports Clearance Officer, National Science Foundation, 2415 Eisenhower Avenue, Suite E6400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

Comments: Comments are invited on: (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

SUPPLEMENTARY INFORMATION:

Title of Collection: National Science Foundation (NSF) Regional Innovation Engines (Engines) Program Evaluation Capacity Building.

OMB Number: 3145-NEW.

Expiration Date of Approval: Not Applicable.

Type of Request: Intent to seek approval to establish an information collection.

Proposed Project: The NSF Engines program was authorized in the CHIPS and Science Act of 2022 (Section 10388) to (1) advance multidisciplinary, collaborative, use-inspired and translational research, technology development, in key technology focus areas; (2) address regional, national, societal, or geostrategic challenges; (3) leverage the expertise of multidisciplinary and multi-sector partners, including partners from private industry, nonprofit organizations, and civil society organizations; and (4) support the development of scientific, innovation, entrepreneurial, and STEM educational capacity within the region of each Engine to grow and sustain regional innovation.

In Fiscal Year (FY) 2024, NSF established 10 inaugural NSF Engines awards, uniquely placing science and technology leadership as the central driver for regional economic competitiveness. Each NSF Engine is accelerating technological innovation while also addressing national, societal and/or geostrategic challenges that are of significant interest in the NSF Engine's defined “region of service.”

The programmatic level goals of NSF Engines are to:

Goal 1: Establish self-sustaining innovation ecosystems;

Goal 2: Establish nationally recognized regional ecosystems for key industries;

Goal 3: Broaden participation in innovation ecosystems by enabling all members of a region to engage;

Goal 4: Advance technologies relevant to national competitiveness;

Goal 5: Catalyze regions with nascent innovation ecosystems;

Goal 6: Increase economic growth;

Goal 7: Increase job creation.

To achieve these goals, each NSF Engine will carry out an integrated and comprehensive set of activities spanning use-inspired research, translation research, innovation and entrepreneurship, and workforce development to nurture and accelerate regional industries. In addition, each NSF Engine is expected to embody a culture of innovation and have a demonstrated, intense, and meaningful focus on engaging everyone throughout its regional science and technology ecosystem.

Owing to the bespoke goals and objectives that are varied by regions and NSF Engines, and the expansive network of stakeholders that are involved, it is important for each NSF Engine to build (and subsequently strengthen) its own evaluation capacity, within a broader context of NSF's assessment of the NSF Engines individually and collectively.

Here, evaluation capacity refers to enabling each Engine to have the competencies in designing, managing, implementing, and using evaluation. It includes “strengthening a culture of valuing evidence, valuing questioning, and valuing evaluative thinking. This can include the capacity of evaluators, as well as the capacity of evaluation and program managers, internal staff, and community members.” ¹ The idea is for each NSF Engine to build the capability and ability to frame evaluations, make sense of them, and apply them in contextually appropriate ways in order to in turn, for example: make evidence-based decisions, provide a supportive network of trust and reciprocity, and continue growing and fostering the structure and infrastructure of each Engine.

¹ https://www.betterevaluation.org/frameworks-guides/rainbow-framework/manage/strengthen-evaluation-capacity.

This request is to seek approval from OMB in establishing a new data collection to enable evaluation capacity to be built and maintained by each NSF Engine. To build evaluation capacity, we are requesting each NSF Engine to provide two sets of documents:

1. Evaluation Plan

2. Annual Evaluation Report

Evaluation Plan. Each NSF Engine award recipient is requested to establish its own external evaluation team. Each evaluation team is tasked to systematically assess the activities, processes, and practices implemented by its respective NSF Engine. The evaluation team, in collaboration with its respective NSF Engine, will work together to formulate a comprehensive Evaluation Plan.

The primary objective of the Evaluation Plan is to serve as an alternative and objective approach for the NSF Engine to monitor and measure its progress, determine the effectiveness of its activities, and gauge the broader socioeconomic impacts of its endeavors. It also serves as an assessment tool for each NSF Engine award recipient to identify, reflect, and address development needs and challenges as they arise, and perform any intervention and/or course corrections, if necessary, in a timely fashion. Finally, it also serves as a tool to systematically and structurally communicate internally within an Engine and externally with partners and other stakeholders.

The Evaluation Plan contains 14 sections:

1. Engine vision and mission

2. Engine goals and alignment

3. Engine overview

4. Purpose of Engine evaluation

5. Timeline

6. Information sharing

7. Research and development (R&D) including translation

8. Workforce development

9. Engagement of the region

10. Ecosystem building

11. Engine level outcomes and impact

12. Internal assessment of evaluation process

13. Other

14. Data management

Annual Evaluation Plan. The external evaluation teams of each NSF Engine award recipient will also produce an Annual Evaluation Report to be provided to both their respective NSF Engine leadership team and to NSF. The annual evaluation report provides a structured mechanism for the evaluation teams to provide an independent and objective assessment on the baselines, progresses, achievements, milestones, and challenges faced by its respective NSF Engine over the past award year. In addition, the evaluation teams will provide recommendations to their respective NSF Engine leadership team on ways to improve existing processes, policies, and practices. These reports offer a comprehensive overview of the team's activities and their outcomes over the previous award year. The report has dual purposes, as a reflection tool for each NSF Engine to learn from their experiences and to make improvements, and as an assessment tool for NSF program directors for award oversight and management.

There are 8 sections to the report:

1. Executive summary

2. Introduction

3. Research and development (R&D) including translation

4. Workforce development

5. Engagement of the region

6. Ecosystem building

7. Outcomes and Impact

8. Evaluation action plan for next year

9. Appendices

a. Appendix A: NSF Engines bi-annual evaluation form

b. Appendix B: Updated methodologies

c. Appendix C: Additional figures and tables

d. Appendix D: Other Information

Burden on the Public: For each Engine award, we anticipate the following number of responses and response burden by reporting requirement:

A.12.1. Number of Respondents, Frequency of Response, and Annual Hour Burden

Table 1—Respondents, Responses, and Annual Hour Burden
Reporting requirements | Number of responses per year | Minimum burden per response (hours) | Maximum burden per response (hours) | Annual burden (hours) per engine
Evaluation Plan | 1 | Year 1: 200 | Year 1: 300 | 200-300
|  | Year 2: 20 | Year 2: 40 | 20-40
|  | Year 3: 20 | Year 3: 40 | 20-40
Annual Evaluation Report | 1 | Year 1: 160 | Year 1: 240 | 160-240
|  | Year 2: 80 | Year 2: 160 | 80-160
|  | Year 3: 80 | Year 3: 160 | 80-160
Total | 2 |  |  | 100-540

A total of 10 NSF Engine teams were awarded. For the first year, the total amount of burden is estimated to be between 3,600 and 5,400 hours for all 10 NSF Engines. For subsequent years, 1,000 and 2,000 hours for all 10 NSF Engines, which translates to 100-200 hours per NSF Engine divided among all participants. Here, participants include members of the Leadership Team of an NSF Engine, which consists between 8 and 12 persons, the Governance Board, which consists between 10 and 20 persons, and the (external) Evaluation Team, which consists of 4-8 persons. Thus, the annual burden hours for the listed evaluation capacity building activities are shared between 22 and 40 persons. And this is to be expected, as evaluation in general is a highly collaborative and participatory activity, it is therefore expected that both the Evaluation Plan and Annual Evaluation Report would involve and engage across and within an NSF Engine.

Finally, the upper bound estimate for the Annual Evaluation Report reflects not only the effort for writing the report but also account for data cleaning, data analysis, and data visualization. We anticipate that the burden for subsequent years to be lower as workflow and cadence will be established after the first year.

Dated: October 22, 2024.
Suzanne H. Plimpton,
Reports Clearance Officer, National Science Foundation.

[FR Doc. 2024-24913 Filed 10-24-24; 8:45 am]

BILLING CODE 7555-01-P